DEPARTMENT OF THE INTERIOR

National Park Service

Resource Protection Study, Draft Environmental Impact Statement, Curecanti National Recreation Area, CO

AGENCY: National Park Service, Department of the Interior.

ACTION: Notice of Availability of the Draft Environmental Impact Statement (EIS) for the Resource Protection Study (RPS), Curecanti National Recreation Area.

SUMMARY: Pursuant to the National Environmental Policy Act of 1969, 42 U.S.C. 4332(2)(C), the National Park Service announces the availability of a Draft Environmental Impact Statement for the Resource Protection Study for Curecanti National Recreation Area, Colorado.

Alternatives Evaluated

Alternative 1

Under Alternative 1, the No Action Alternative, NPS would continue to manage the natural, cultural, and recreational resources of Curecanti National Recreation Area (NRA), and associated facilities, pursuant to Reclamation law, NPS law, the 1965 Memorandum of Agreement between NPS and Reclamation (1965 MOA), and other applicable laws and regulations. Reclamation would continue to mange the three dams and reservoirs, power plants, access roads, and other related facilities, to meet the purposes of the Colorado River Storage Project Act (CRSP); and the East Portal area to meet the purposes of the Uncompahgre Project; pursuant to Reclamation law, the 1965 MOA, and other applicable laws and regulations. There would be no significant change in the NRA boundary. However, a permanent NPS presence would not be assured under this alternative.

Alternative 2

Under Alternative 2, the Proposed Action, NPS would manage the same natural, cultural, and recreational resources and facilities as Alternative 1, pursuant to Reclamation law, NPS law, including new legislation establishing the NRA with 10,040 acres of additional agreed-upon neighboring agency lands, a revised MOA with Reclamation, and other applicable laws and regulations. Reclamation would manage their same facilities as Alternative 1, pursuant to Reclamation law, the revised MOA, and other applicable laws and regulations. NPS would be authorized to work in partnership with private landowners within a Conservation Opportunity Area of 24,300 acres outside the NRA boundary, to implement a variety of tools, including acquiring interests in land from willing landowners, which would promote the long-term conservation of resources. A permanent NPS presence would be assured under this alternative, which is also the environmentally preferred alternative.

DATES: The National Park Service will accept comments on the Draft Environmental Impact Statement from the public. Comments will be accepted for 90 days from the date the Environmental Protection Agency publishes the Notice of Availability. No public meetings are scheduled at this time. However, public meetings will be scheduled in the future, and will be advertised by newsletters and news media in the local areas of Gunnison and Montrose Counties, Colorado, and on the project's Web site, described below.

ADDRESSES: The entire Draft RPS/EIS, and a Summary Document will be available for public review and comment on the project's Web site, described below; and at the following locations in Colorado: (A) Curecanti NRA, 102 Elk Creek, Gunnison, CO 81230, telephone: (970) 641-2337; (B) Montrose Public Lands Center, 2505 South Townsend Avenue, Montrose, CO 81401, telephone (970) 240-5300; (C) Gunnison Public Library; (D) Montrose Public Library; (E) Hotchkiss Public Library; (F) Delta Public Library; and (G) Grand Junction Public Library.

FOR FURTHER INFORMATION CONTACT: (A) Dave Roberts, Management Assistant, telephone: (970) 240-5432 (Montrose, CO); (B) Connie Rudd, Superintendent, telephone: (970) 641-2337 x. 220 (Gunnison, CO); or (C) Jeff Heywood, Project Leader, telephone: (303) 969-2835 (Lakewood, CO).

SUPPLEMENTARY INFORMATION: If you wish to comment, you may do so via the Internet at: http://parkplanning.nps.gov. (Under “Choose a Park,” select Curecanti NRA, and click on “GO”; then click on “Curecanti National Recreation Area Resource Protection Study”; then in the left column, click on “Open for Public Comment”; then follow the directions for entering comments.) Or you may mail comments to: Curecanti Resource Projection Study Comments, Attn: Dave Roberts, 2465 South Townsend Avenue, Montrose, CO 81401. If you submit comments via the Internet, you should receive electronic confirmation. If not, contact Dave Roberts at (970) 240-5432. Before including your address, phone number, e-mail address, or other personal identifying information in your comment, you should be aware that your entire comment—including your personal identifying information—may be made publicly available at any time. While you can ask us in your comment to withhold your personal identifying information from public review, we cannot guarantee that we will be able to do so.

Dated: May 17, 2007.
Michael D. Snyder,
Director, Intermountain Region, National Park Service.

[FR Doc. 07-3487 Filed 7-16-07; 8:45 am]

BILLING CODE 4310-E4-M